DEPARTMENT OF ENERGY

Federal Energy Regulatory Commission

[Project No. 2790-055]

Boott Hydropower, Inc.; Notice of Section 106 Consultation Meeting

On May 24, 2012, Federal Energy Regulatory Commission (Commission) staff will participate in a meeting with staff from the U.S. Department of the Interior, the National Park Service, the Massachusetts State Historic Preservation Officer, the Advisory Council on Historic Preservation, Boott Hydropower, Inc., and any other consulting parties for the section 106 process for the proposed license amendment application for the Lowell Hydroelectric Project (FERC No. 2790-055). Currently, the Commission is reviewing an amendment application for the project to replace the wooden flashboards with a pneumatic crest gate system on the Pawtucket Dam. The meeting will be limited to discussion of the issues involved in the section 106 consultation process and mitigation options for impacts to historic properties from installation of the pneumatic crest gate system, as required by the National Historic Preservation Act. Interested members of the public may attend and observe the meeting, but participation is limited to the applicant and agencies involved in the section 106 consultation process.

The meeting will begin at 1:00 p.m. EDT at the Countinghouse at the Boott Cotton Mills Museum, 115 John Street, Lowell, MA 01852. Interested parties wishing to attend should contact Shana High at (202) 502-8674 or by email at Shana.High@ferc.gov, or Heather Campbell at (202) 502-6182 or by email at Heather.Campbell@ferc.gov.

Dated: May 4, 2012.
Nathaniel J. Davis, Sr.,
Deputy Secretary.

[FR Doc. 2012-11294 Filed 5-9-12; 8:45 am]

BILLING CODE 6717-01-P